DEPARTMENT OF THE TREASURY

Office of Foreign Assets Control

Notice of OFAC Sanctions Action

AGENCY: Office of Foreign Assets Control, Treasury.

ACTION: Notice.

SUMMARY: The U.S. Department of the Treasury's Office of Foreign Assets Control (OFAC) is publishing the names of one or more persons and vessels that have been placed on OFAC's Specially Designated Nationals and Blocked Persons List (SDN List) based on OFAC's determination that one or more applicable legal criteria were satisfied. Additionally, OFAC is revising the entries of one or more persons that have been placed on OFAC's SDN List. All property and interests in property subject to U.S. jurisdiction of these persons are blocked, and U.S. persons are generally prohibited from engaging in transactions with them.

DATES: This action was issued on April 28, 2025. See SUPPLEMENTARY INFORMATION for relevant dates.

FOR FURTHER INFORMATION CONTACT: OFAC: Associate Director for Global Targeting, 202-622-2420; Assistant Director for Licensing, 202-622-2480; Assistant Director for Sanctions Compliance, 202-622-2490 or https://ofac.treasury.gov/contact-ofac.

SUPPLEMENTARY INFORMATION:

Electronic Availability

The SDN List and additional information concerning OFAC sanctions programs are available on OFAC's website: https://ofac.treasury.gov.

Notice of OFAC Actions

On April 28, 2025, OFAC determined that the property and interests in property subject to U.S. jurisdiction of the following persons are blocked, under the relevant sanctions authorities listed below.

Entities

1. BAGSAK SHIPPING INC, Mauritius; Secondary sanctions risk: section 1(b) of Executive Order 13224, as amended by Executive Order 13886; Organization Established Date 01 Dec 2024; Identification Number IMO 6474784 [SDGT] (Linked To: ANSARALLAH).

Designated pursuant to section 1(a)(iii)(C) of Executive Order 13224 of September 23, 2001, “Blocking Property and Prohibiting Transactions With Persons Who Commit, Threaten To Commit, or Support Terrorism,” 66 FR 49079, as amended by Executive Order 13886 of September 9, 2019, “Modernizing Sanctions To Combat Terrorism,” 84 FR 48041 (E.O. 13224, as amended), for having materially assisted, sponsored, or provided financial, material, or technological support for, or goods or services to or in support of, ANSARALLAH, a person whose property and interests in property are blocked pursuant to E.O. 13224, as amended.

2. ZAAS SHIPPING & TRADING CO, Jounieh, Lebanon; Majuro, Marshall Islands; Secondary sanctions risk: section 1(b) of Executive Order 13224, as amended by Executive Order 13886; Organization Established Date 2023; Identification Number IMO 6392790 [SDGT] (Linked To: ANSARALLAH).

Designated pursuant to section 1(a)(iii)(C) of E.O. 13224, as amended, for having materially assisted, sponsored, or provided financial, material, or technological support for, or goods or services to or in support of, ANSARALLAH, a person whose property and interests in property are blocked pursuant to E.O. 13224, as amended.

3. GREAT SUCCESS SHIPPING CO, Jounieh, Lebanon; Secondary sanctions risk: section 1(b) of Executive Order 13224, as amended by Executive Order 13886; Organization Established Date 2023; Identification Number IMO 0093360 [SDGT] (Linked To: ANSARALLAH).

Designated pursuant to section 1(a)(iii)(C) of E.O. 13224, as amended, for having materially assisted, sponsored, or provided financial, material, or technological support for, or goods or services to or in support of, ANSARALLAH, a person whose property and interests in property are blocked pursuant to E.O. 13224, as amended.

On April 28, 2025, OFAC also identified the following vessels as property in which a blocked person has an interest under the relevant sanctions authority listed below.

Vessels

1. MAISAN (3E4995) Products Tanker Panama flag; Secondary sanctions risk: section 1(b) of Executive Order 13224, as amended by Executive Order 13886; Vessel Registration Identification IMO 9289776; MMSI 352002675 (vessel) [SDGT] (Linked To: BAGSAK SHIPPING INC).

Identified pursuant to Executive Order 13224, as amended, for being property in which BAGSAK SHIPPING INC, a person whose property and interests in property are concurrently blocked pursuant to E.O. 13224, as amended, has an interest.

2. TULIP BZ (T7AV5) LPG Tanker San Marino flag; Secondary sanctions risk: section 1(b) of Executive Order 13224, as amended by Executive Order 13886; Vessel Registration Identification IMO 9014420; MMSI 268249300 (vessel) [SDGT] (Linked To: ZAAS SHIPPING & TRADING CO).

Identified pursuant to Executive Order 13224, as amended, for being property in which ZAAS SHIPPING AND TRADING CO, a person whose property and interests in property are concurrently blocked pursuant to E.O. 13224, as amended, has an interest.

3. WHITE WHALE (H9HR) Crude/Oil Products Tanker Panama flag; Secondary sanctions risk: section 1(b) of Executive Order 13224, as amended by Executive Order 13886; Vessel Registration Identification IMO 9230426; MMSI 374932000 (vessel) [SDGT] (Linked To: GREAT SUCCESS SHIPPING CO).

Identified pursuant to Executive Order 13224, as amended, for being property in which GREAT SUCCESS SHIPPING CO, a person whose property and interests in property are concurrently blocked pursuant to E.O. 13224, as amended, has an interest.

On April 28, 2025, OFAC also published the following revised information for the entries on the SDN List for the following vessels blocked under the relevant sanctions authorities listed below.

1. AKOYA GAS (a.k.a. GAS ALLURE) (5IM779) Chemical/Oil Tanker Tanzania flag; Vessel Registration Identification IMO 9142150; MMSI 352898800 (vessel) [IRAN-EO13846] (Linked To: VIRGO MARINE).

Identified pursuant to Executive Order 13846 of August 6, 2018, “Reimposing Certain Sanctions With Respect to Iran,” 66 Fed Reg. 49079 (E.O. 13846), for being property in which VIRGO MARINE, a person whose property and interests in property are concurrently blocked pursuant to E.O. 13846, has an interest.

2. CLIPPER (a.k.a. EAGLE PRIDE; a.k.a. QUEEN LUCA) LPG Tanker Guyana flag; Secondary sanctions risk: section 1(b) of Executive Order 13224, as amended by Executive Order 13886; Vessel Registration Identification IMO 9102198 (vessel) [SDGT] (Linked To: ELVEGARD SHIPPING LTD).

Identified pursuant to Executive Order 13224, as amended, for being property in which ELVEGARD SHIPPING LTD, a person whose property and interests in property are concurrently blocked pursuant to E.O. 13224, as amended, has an interest.

Lisa M. Palluconi,
Acting Director, Office of Foreign Assets Control.

[FR Doc. 2025-07554 Filed 4-30-25; 8:45 am]

BILLING CODE 4810-AL-P